DEPARTMENT OF LABOR

Employment and Training Administration

[TA-W-57,241]

Victor Forstmann, Inc.; East Dublin, GA; Notice of Termination of Investigation

Pursuant to Section 221 of the Trade Act of 1974, as amended, an investigation was initiated on May 24, 2005 in response to a worker petition filed by the State of Georgia on behalf of workers at Victor Forstmann, Inc., East Dublin, Georgia.

The petitioner has requested that the petition be withdrawn. Consequently, the investigation has been terminated.

Signed at Washington, DC, this 7th day of June, 2005.
Elliott S. Kushner,
Certifying Officer, Division of Trade Adjustment Assistance.

[FR Doc. E5-3235 Filed 6-21-05; 8:45 am]

BILLING CODE 4510-30-P